POSTAL SERVICE

39 CFR Part 20

Changes in Classifications of General Applicability for International Competitive Services

AGENCY: Postal Service™.

ACTION: Final action.

SUMMARY: The Postal Service™ is revising Mailing Standards of the United States Postal Service, International Mail Manual (IMM®), and Notice 123, Price List, to reflect classification changes to Competitive services, as established by the Governors of the United States Postal Service.

DATES: Effective July 14, 2024.

FOR FURTHER INFORMATION CONTACT: Dale Kennedy at 202-268-6592 or Kathy Frigo at 202-268-4178.

SUPPLEMENTARY INFORMATION: These changes implement changes in the minimum dimensions for First-Class Package International Service® (FCPIS®), International Priority Airmail® (IPA®) service and International Surface Air Lift® (ISAL®) service letter-post rolls to bring them closer to compliance with standards established by the Universal Postal Union (UPU) Convention Regulations, which serves as applicable authority in this instance, as adopted at a meeting of the UPU Postal Operations Council in May 2023.

To be in compliance with the UPU regulations, the Postal Service must revise its minimum dimensions for international letter-post rolls, so that the minimum length will be 8.25 inches instead of 4 inches, and so that the minimum length plus twice the diameter will be 12 inches instead of 6.75 inches.

In addition, the Postal Service is eliminating a competitive international electronic money transfer service known as Sure Money® (DineroSeguro®).

Revisions to the size limitations for international rolls are posted under Docket No. MC2024-224, and the removal of prices for International Money Transfer Service (Sure Money) is posted under Docket Number CP2024-230 and on the Postal Regulatory Commission's website at http://www.prc.gov.

This final rule describes the classification changes for the following international competitive services:

• First-Class Package International Service.

• International Money Transfer Service Sure Money (DineroSeguro)

For pricing, see the Postal Explorer website at https://pe.usps.com.

First-Class Package International Service

First-Class Package International Service (FCPIS) is an economical international service for small packages not exceeding 4 pounds in weight and $400 in value. The Postal Service is increasing the FCPIS minimum length requirement on rolls from 4 inches to 8.25 inches and increasing the minimum length plus twice the diameter combined from 6¾ inches to 12 inches to align with the standards established by the UPU. International Priority Airmail (IPA) service and International Surface Airlift (ISAL) service packets are also affected by this change since the dimensional requirements for IPA and ISAL are identical to those for FCPIS.

International Extra Services and Fees

The Postal Service is eliminating the competitive international extra service for International Money Transfer Service known as Sure Money (DineroSeguro).

Revise the following sections of the Mailing Standards of the United States Postal Service, International Mail Manual (IMM) as follows:

2 Conditions for Mailing

* * * * *

250 First-Class Package International Service

* * * * *

251.23 Dimensions—Rolls

* * * * *

[Revise the text to read as follows:]

Rolls must be within the following dimensions:

a. Minimum length: 8.25 inches.

b. Minimum length plus twice the diameter combined: 12 inches.

* * * * *

370 International Money Transfer Services

* * * * *

[Remove all text and revise the header to reflect “Reserved” as follows:]

372 Reserved

* * * * *

We will publish an appropriate amended to 39 CFR part 20 to reflect these changes.

Christopher Doyle,
Attorney, Ethics and Legal Compliance.

[FR Doc. 2024-08140 Filed 4-16-24; 8:45 am]

BILLING CODE 7710-12-P